DEPARTMENT OF HOMELAND SECURITY

Federal Emergency Management Agency

[Docket ID: FEMA-2022-0006; OMB No. 1660-NW133]

Agency Information Collection Activities: Submission for OMB Review; Comment Request; Generic Clearance for Civil Rights and Equity

AGENCY: Federal Emergency Management Agency, Department of Homeland Security.

ACTION: 30-Day notice and request for comments.

SUMMARY: The Federal Emergency Management Agency (FEMA) will submit the information collection abstracted below to the Office of Management and Budget for review and clearance in accordance with the requirements of the Paperwork Reduction Act of 1995. The notice seeks comments concerning FEMA's collection of demographic characteristics of those who apply for the Agency's programs or disaster assistance.

DATES: Comments must be submitted on or before June 17, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, 500 C Street SW, Washington, DC 20472, email address FEMA-Information-Collections-Management@fema.dhs.gov or Brian Thompson, Supervisory Emergency Management Specialist, Recovery Directorate, Federal Emergency Management Agency, 540-686-3602, Brian.Thompson6@fema.dhs.gov.

SUPPLEMENTARY INFORMATION: FEMA proposes to collect demographic information from those who apply for benefits to improve its approach to ensuring compliance with its civil rights, nondiscrimination and equity requirements, and obligations as outlined in federal civil rights laws such as Title VI of the Civil Rights Act of 1964, 42 U.S.C. 2000d, Section 504 of the Rehabilitation Act of 1973, 29 U.S.C. 794, and the Robert T. Stafford Disaster Relief and Emergency Assistance Act (the Stafford Act). Such demographic data concerning individuals who participate in or benefit from the Agency's programs and activities will increase FEMA's ability to evaluate the accessibility and distributional equity of their programs and then make alterations or pivot based upon identified areas of concern, thereby demonstrating compliance with civil rights laws.

This proposed information collection previously published in the Federal Register on January 25, 2022, at 87 FR 3836 with a 60-day public comment period. FEMA received 32 comments from the public.

Certain comments question the utility and relevance of collecting demographic information from disaster survivors in the context of the equitable and efficient delivery of FEMA's disaster response.¹ Further, the comments ask questions about FEMA's current use of data collected from disasters survivors and how this additional demographic information impacts data being collected by the agency.

¹ Comment 1 (FEMA-2022-0006-0002), Comment 2 (FEMA-2022-0006-0003, Comment 3 (FEMA-2022-0006-0004), Comment 7 (FEMA-2022-0006-0008), Comment 8 (FEMA-2022-0006-0009), Comment 14 (FEMA-2022-0006-0015), Comment 15 (FEMA-2022-0006-0016).

FEMA Response: The Robert T. Stafford Disaster Relief and Emergency Assistance Act (Stafford Act), Public Law 93-288, as amended, is the legal basis for the Federal Emergency Management Agency (FEMA) to provide financial assistance and services to individuals applying for disaster assistance benefits in the event of a Federally-declared disaster. Regulations in 44 CFR 206.110—Federal Assistance to Individuals and Households implements the policy and procedures set forth in Section 408 of the Stafford Act, 42 U.S.C. 5174, as amended. This program provides financial assistance and, if necessary, direct assistance to eligible individuals and households who, as a direct result of a major disaster or emergency, have uninsured or under-insured, necessary expenses and serious needs, and are unable to meet such expenses or needs through other means.

This collection is to ensure that FEMA is equitably reaching all communities and people who require assistance. Affirmatively, upon the approval of this generic clearance, FEMA will obtain information about the demographic characteristics of those who apply for disaster assistance grants; but FEMA will continue to provide financial assistance and services only to those eligible individuals and households who, as a direct result of a major disaster or emergency, have uninsured or under-insured, necessary expenses and serious needs, and are unable to meet such expenses or needs through other means, in accordance with the law. In addition to informing survivors of their privacy rights, this collection also notifies applicants that their response or lack of response to demographic questions will neither positively nor negatively influence their eligibility for grant assistance. Each question has a `prefer not to answer' response as well in case an applicant wishes to not respond to one or more of the demographic questions.

Among other things, the collection will support FEMA's obligation to assess its policies and programs and ensure that access to and participation in the Individuals and Households Program (IHP) are accomplished in an equitable and impartial manner in accordance with Section 308(a) of the Stafford Act that requires FEMA disaster assistance, including “the distribution of supplies, the processing of applications, and other relief and assistance activities” by FEMA and recipients of FEMA financial assistance, and “be accomplished in an equitable and impartial manner, without discrimination on the grounds of race, color, religion, nationality, sex, age, disability, English proficiency, or economic status.” This will ultimately guide more informed and effective disaster policies that do not exclude or minimize any demographic or section of a community.

As correctly pointed out by the public in these comments, FEMA has historically held the responsibility of meeting civil rights obligations. Its nondiscrimination and equity requirements and obligations are outlined in federal civil rights laws, such as the Civil Rights Act of 1964, the Rehabilitation Act, and the Stafford Act, as well as relevant Executive Orders. The collection of this information is crucial to FEMA's aim of fulfilling our obligations and will permit its program grant offices to identify and remove barriers to application, qualification, and award, and permitting activities directly affecting disaster survivors to identify and remove barriers to equity and enhance programmatic accessibility. As correctly pointed out by the public in these comments, FEMA has historically held the responsibility of meeting civil rights obligations. Its nondiscrimination and equity requirements and obligations are outlined in federal civil rights laws, such as the Civil Rights Act of 1964, the Rehabilitation Act, and the Stafford Act, as well as relevant Executive Orders. The collection of this information is crucial to FEMA's aim of fulfilling our obligations and will permit its program grant offices to identify and remove barriers to application, qualification, and award, and permitting activities directly affecting disaster survivors to identify and remove barriers to equity and enhance programmatic accessibility.

Comment 4 (FEMA-2022-0006-0005): The commenter suggested the “data collection on race or disability status that it creates more challenges for people in those sectors of life; we should ask for an administrative procedure act to be done so congress can review this. I would like to know how data collected will be used as this needs to be outlined before any disclosure.

FEMA Response: FEMA will obtain information about the demographic characteristics of those who apply for disaster assistance grants in accordance with the law. FEMA uses and shares information with entities such as states, tribes, local governments, and other organizations. FEMA intends to add demographic questions to existing data collections for grant programs. Questions will be included towards the end of a grant collection form and Privacy Act language will clearly notify applicants that their response or lack of response to demographic questions will not influence their eligibility for grant assistance. Each question has a `prefer not to answer' response as well in case an applicant wishes to not respond to one or more of the demographic questions. Such information is necessary to assess and enforce FEMA's civil rights obligations; its nondiscrimination and equity requirements and obligations as outlined in federal civil rights laws, such as the Civil Rights Act of 1964, the Rehabilitation Act, and the Stafford Act, as well as relevant Executive Orders. Collection of this information will also allow grant offices to identify and remove barriers to application, qualification and award, and permitting activities directly affecting disaster survivors to identify and remove barriers to equity and enhance programmatic accessibility.

Comment 5 (FEMA-2022-0006-0006): The fifth comment was not applicable to this collection.

Comment 6 (FEMA-2022-0006-0007): The sixth comment was not applicable to this collection.

Comment 9 (FEMA-2022-0006-0010): The commenter suggested that in addition to asking about race/ethnicity, gender, education, and marital status, would strongly encourage the collection of data regarding, Age, Number of People in the Household (and indicating whether any of the people in the household are children), Homeownership/Renter Status, and Disability Status. All of these factors strongly influence pre and post disaster outcomes, and hence are incredibly important for the agency to collect. Finally, for the gender question, “Woman” or “Man” would be more appropriate than “Female” or “Male”.”

FEMA Response: In accordance with the law, to include the Privacy Act, FEMA collects all the other data fields suggested except for gender.

Comment 10 (FEMA-2022-0006-0011): The commenter suggested separating the Cognitive/Developmental Disabilities/Mental Health categories into Cognitive/Developmental Disabilities and Mental Health/Behavioral Health; clarifying on all forms that an individual may select all disabilities or conditions that may apply; that FEMA include broad ranges of income among the demographic variables collected; FEMA may wish to ask about health insurance status.

FEMA Response: FEMA does not intend to separate Cognitive Developmental Disability from Mental Health/Behavioral Health. FEMA currently collects data information on whether or not someone has medical insurance. While FEMA asks about medical insurance, the instructions inform applicants to select all that apply.

Comment 11 (FEMA-2022-0006-0012): The eleventh comment was not applicable to this collection.

Comment 12 (FEMA-2022-0006-0013): The commenter suggested we believe that this data collection is (A) necessary for the proper performance of the agency, including that the collection and use of this data will have practical utility; (B) useful and that a few additional data collection points may be identified and added to this proposal at minimum expense if incorporated with this proposed change; (C) this data will enhance the quality, utility, and clarity of the information to be collected; and (D) the collection techniques identified will minimize the burden of collection.

FEMA Response: FEMA is constantly working to improve our delivery of assistance and streamline our processes for disaster applicants and appreciates your evaluation of our data collection.

Comment 13 (FEMA-2022-0006-0014): The commenter suggested that to fully meet the nondiscrimination requirements of the Stafford Act, FEMA should also ask for applicants' age in addition to race, ethnicity, and gender. FEMA should publicly commit to making demographic data, absent personal identifying information (PII), available via the OpenFEMA data portal on an ongoing basis. FEMA should also implement a transparent process for sharing applicant data, including PII data, with qualified research institutions to ensure the data are utilized to their full potential and to also ensure the Agency's accountability to the Civil Rights Act and the Stafford Act. FEMA should work with other federal agencies, like HUD and the Small Business Administration (SBA), to further enhance the utilization of these demographic data.

FEMA Response: FEMA is strengthening interagency data-sharing to support improved modeling and information sharing. FEMA collects the applicant's age during registration intake. FEMA does not release this data via OpenFEMA and does not intend to do so.

Comment 16 (FEMA-2022-0006-0017): The commenter appreciates the value of the data collected for the purpose of determining whether minority populations are adversely impacted relative to relief provided by FEMA. Determining the magnitude of the problem and identifying its source is necessary before change can occur.

FEMA Response: FEMA is constantly working to improve our delivery of assistance and streamline our processes for disaster applicants and appreciates your evaluation of our data collection.

Comment 17 (FEMA-2022-0006-0018): The commenter suggested providing the specific information that FEMA proposes to collect; clarifying how this information will be used to prevent discrimination and how it will benefit survivors. Clarify whether the additional questions will be optional or required for eligibility of FEMA benefits. Survivors have a wide range of experience and reading/writing/and language comprehension. Explain how FEMA will ensure that the additional questions will not be intimidating to/uncomfortable for survivors. If FEMA chooses to ask about citizenship, explain how it plans to ensure that this does not deter applicants from applying. Ensure the data collection process will be trauma informed. FEMA's forms should be reviewed by a panel of advocates from non-profit agencies who work with these unserved/underserved populations to include considerations for cultural competence, language, age, disability, literacy level, housing status, etc.

FEMA Response: FEMA does not currently collect data about citizenship of an applicant or household members and is not adding a citizenship question via this collection. FEMA will obtain information about the demographic characteristics of those who apply for disaster assistance grants in accordance with the law, to include Section 504 of the Rehabilitation Act. FEMA uses and shares information with entities such as states, tribes, local governments, and other organizations. FEMA intends to add demographic questions to existing data collections for grant programs. Questions will be included towards the end of a grant collection form and Privacy Act language will clearly notify applicants that their response or lack of response to demographic questions will not influence their eligibility for grant assistance. Each question has a `prefer not to answer' response as well in case an applicant wishes to not respond to one or more of the demographic questions. Such information is necessary to assess and enforce FEMA's civil rights obligations; its nondiscrimination and equity requirements and obligations as outlined in federal civil rights laws, such as the Civil Rights Act of 1964, the Rehabilitation Act, and the Stafford Act, as well as relevant Executive Orders. Collection of this information will also allow grant offices to identify and remove barriers to application, qualification and award, and permitting activities directly affecting disaster survivors to identify and remove barriers to equity and enhance programmatic accessibility. FEMA forms are reviewed by appropriate entities within the Agency, DHS, and OMB, to include the Office of Equal Rights and External Affairs.

Comment 18 (FEMA-2022-0006-0019): The commenter strongly supports the collection of additional data, including information on race, ethnicity, Tribal membership, gender, age, income, disability status, status as a female headed household or not, and status as a renter or not.

FEMA Response: FEMA is constantly working to improve our delivery of assistance and streamline our processes for disaster applicants and appreciates your evaluation of our data collection.

Comment 19 (FEMA-2022-0006-0020): The commenter strongly supports FEMA collecting demographic information from those who apply for benefits. Unless FEMA understands applicants' demographics, it will not be possible to ensure that FEMA benefits are equitably distributed and helping those who need it most.

FEMA Response: FEMA is constantly working to improve our delivery of assistance and streamline our processes for disaster applicants and appreciates your evaluation of our data collection.

Comment 20 (FEMA-2022-0006-0021): The commenter implores FEMA to include a category for individuals of “Middle Eastern or North African” (MENA) descent to identify among the list of racial and ethnic group categories into which they disaggregate demographic data collected under this information collection activity.

FEMA Response: FEMA's Individual Assistance program has added demographic application questions related to the race, ethnicity, and tribal membership. In the future, FEMA will aim to identify and address potential access barriers and disparate outcomes based on the information collected, instead of only collecting data that directly supported the implementation of the program. FEMA will be adding the ethnic group question to the data collection for submission to the Office of Management & Budget (OMB).

Comment 21 (FEMA-2022-0006-0022): The commenter suggested that to ensure FEMA is fulfilling nondiscriminatory obligations, an opportunity must be afforded to applicants to disclose specific demographic information. Publicly available information from FEMA could assist in ensuring access to justice in a disaster. FEMA has an opportunity to improve the operational outcomes for vulnerable communities by implementing inclusive processes. Inclusive demographics, as a metric, is a quantitative measure that can provide certainty of FEMA's legal obligations to ensure that disaster assistance is distributed in an equitable manner without discrimination.

FEMA Response: FEMA is constantly working to improve our delivery of assistance and streamline our processes for disaster applicants and appreciates your evaluation of our data collection.

Comment 22 (FEMA-2022-0006-0023): The commenter strongly supports the additional collection of data by FEMA, particularly as applied to race, ethnicity, tribal status, and gender identity. The collection of the proposed data, its application to FEMA emergency response practices, and its matching with HUD data in support of long-term recovery and mitigation is one more step toward more equitable and effective program design and resources application. As this data is integrated into the recently implemented FEMA and HUD data matching, both should establish procedures to make this data (with personal identifying information (PII) redacted) available to the public. We applaud FEMA's additional data collection, and we hope that this new data collection will help spur continued improvements in data transparency.

FEMA Response: FEMA is undertaking an assessment of equity outcomes of several mitigation, federal insurance, preparedness, and grant programs. Based on the National Advisory Council (NAC) recommendations and other inputs, efforts to improve equity outcomes will include: Engaging with State, Local, Tribal, and Territorial (SLTT) partners by discussing key elements of the new Building Resilient Infrastructure and Communities (BRIC) program, providing a grant program and funding priority overview, preparing underserved applicants to apply for disaster assistance, and publishing the Mitigation Action Portfolio, a new resource to introduce stakeholders to the BRIC grant program and the array of eligible hazard mitigation activities. Furthermore, the FEMA Intergovernmental Affairs (IGA) Tribal Partner Team is developing a training plan for internal staff to better understand tribal nations' government structures, heritage, and culture.

Comment 23 (FEMA-2022-0006-0024): The commenter is pleased to respond to the Federal Emergency Management Agency (FEMA) request for comments on FEMA's proposed collection of demographic characteristics of those who apply for the Agency's programs or disaster assistance; to fulfill its Congressional mandate and ensure that federal disaster relief truly serves the most vulnerable, FEMA must collect the information necessary to assess its activities; applaud FEMA's efforts in moving forward to ensure this obligation is met.

FEMA Response: FEMA is constantly working to improve our delivery of assistance and streamline our processes for disaster applicants and appreciates your evaluation of our data collection.

Comment 24 (FEMA-2022-0006-0025): The commenter suggested that FEMA should explicitly seek to assist those who were most vulnerable before a disaster. We recommend consideration of an approach like Housing and Urban Development's Community Development Block Grant Disaster Recovery program, which ensures a majority of its funding goes to primarily benefit low- and moderate-income households. FEMA must also consider collecting demographic information in its hazard mitigation programs, such as the Hazard Mitigation Grant Program and Building Resilient Infrastructure and Communities programs.

FEMA Response: FEMA and stakeholders are reviewing changes to the Threat Hazard Identification and Risk Assessment (THIRA) and the Stakeholder Preparedness Review (SPR) to capture vulnerabilities, capability gaps, and target levels of capability for at-risk communities and ensure equitable funding distribution related to planning, preparedness, mitigation, and recovery outcomes.

Comment 25 (FEMA-2022-0006-0026): The twenty-fifth comment received is a duplicate of the twenty-fourth comment.

Comment 26 (FEMA-2022-0006-0027): The commenter suggested that FEMA's proposal to add the additional demographic questions to the Individual and Households Program registration will help promote transparency and analysis towards improving equity in its programs. FEMA is meeting this equity requirement. Demographic questions should be added to every form of the application, whether the applicant applies online through disasterassistance.gov, via phone through the FEMA helpline, or in person at a Disaster Recovery Center. Because application barriers are most likely to affect underserved populations, equity would be furthered by broadening demographic information collection to include everyone who begins the application for FEMA benefits, including those who do not ultimately receive a registration number. Applicants see “Identification Verification Error” on their screen with a vague explanation that FEMA is unable to verify important information needed to complete the online registration. FEMA could make demographic information regarding applicants' race, income, gender, age, and disability-status available via OpenFEMA data sets.

FEMA Response: FEMA is considering policy recommendations that better align funding distribution to support at-risk communities. These recommendations include providing for the security and needs of underserved and historically marginalized communities more effectively; the assessment will investigate barriers to program participation including program awareness, ease of application, eligibility, and qualification requirements, as well as identifying where funding has not been previously awarded. FEMA is strengthening interagency data-sharing to support improved modeling and information sharing. FEMA collects the applicant's age during registration intake. Currently, FEMA does not release this data via OpenFEMA or research institutions.

Comment 27 (FEMA-2022-0006-0028): The commenter understands the need of a FEMA effort to collect demographic information to ensure compliance with Federal civil rights requirements and the equitable implementation of emergency management policies and programs; however, there does need to be further discussion in how such data will be used post collection and incorporated in grant timelines.

FEMA Response: FEMA is currently developing a comprehensive approach to advancing equity using the requirements of Executive Order (E.O.) 13985: Advancing Racial Equity and Support for Underserved Communities Through the Federal Government, issued on January 20, 2021. Determining if new or updated policies, regulations, or guidance documents are necessary to advance equity in agency actions and programs; reviewing strategies of resource allocation to increase investment that advance equity in underserved communities; consulting with members of historically underrepresented and underserved communities to evaluate opportunities and develop approaches to advancing equity by increasing coordination, communication, and engagement with community-based and civil rights organizations; studying FEMA data collection programs, policies, and infrastructure, identifying any deficiencies, and working to implement actions that expand and refine data used to measure equity.

Comment 28 (FEMA-2022-0006-0029): The commenter suggested regarding the Data Collection that FEMA has not yet said who will have access to the demographic data, what the data will be used for, and what training there will be for those handling the data. Private demographic data may create impenetrable insulation for FEMA decision making, meaning any time claims of inequity or discrimination are levied against FEMA or one of FEMA's programs, FEMA could use this data as a shield justifying its actions.

FEMA Response: FEMA will obtain information about the demographic characteristics of those who apply for disaster assistance grants in accordance with the law, to include the Privacy Act. FEMA uses and shares information with entities such as states, tribes, local governments, and other organizations. FEMA intends to add demographic questions to existing data collections for grant programs. Questions will be included towards the end of a grant collection form and Privacy Act language will clearly notify applicants that their response or lack of response to demographic questions will not influence their eligibility for grant assistance. Each question has a `prefer not to answer' response as well in case an applicant wishes to not respond to one or more of the demographic questions. Such information is necessary to assess and enforce FEMA's civil rights obligations; its nondiscrimination and equity requirements and obligations as outlined in federal civil rights laws, such as the Civil Rights Act of 1964, the Rehabilitation Act, and the Stafford Act, as well as relevant Executive Orders. Collection of this information will also allow grant offices to identify and remove barriers to application, qualification and award, and permitting activities directly affecting disaster survivors to identify and remove barriers to equity and enhance programmatic accessibility.

Comment 29 (FEMA-2022-0006-0030): The commenter strongly supports the proposal to collect demographic data, including data on race, ethnicity, and gender, from applicants for FEMA's Individuals and Households Program (IHP). Collecting this data is critical to the agency's ability to comply with its civil rights obligations under federal law, as well as compliance with Executive Orders 13985, 13990, and 14008. FEMA is unable to accurately assess its compliance with civil rights, nondiscrimination, and equity requirements and obligations without collecting this data. FEMA should collect additional demographic data in order to fully meet the nondiscrimination requirements of the Stafford Act and other civil rights and equity requirements and obligations, and make data publicly available. FEMA has a legal and ethical obligation to ensure that its programs are equitable and nondiscriminatory. FEMA's proposed data collection is necessary and appropriate.

FEMA Response: From FEMA Directive #262-1: Data Sharing to the maximum extent possible, FEMA will make non-sensitive data available, in multiple formats, to the public, in order to promote transparency, and to enhance the whole community's ability to make informed decisions on prevention, preparedness, mitigation, response, and recovery efforts. FEMA Program Offices will publish non-sensitive, non-PII information online in a manner that promotes analysis and reuse for the widest possible range of purposes, meaning that the information is publicly accessible, machine-readable, appropriately described, complete, and timely.

Comment 30 (FEMA-2022-0006-0031): The commenter applauds FEMA's efforts to address longstanding equity concerns with the agency's provision of services and funding. The first step, however, to addressing these concerns is understanding the nature and extent of the problem. To that end, we support the agency's decision to begin collecting demographic data of aid recipients. FEMA has a legal obligation to administer its programs in an equitable manner. FEMA must collect data that allows it to accurately track who receives its funding. In order to meet its obligations under Title VI and other nondiscrimination statutes, FEMA must collect demographic information.

FEMA Response: FEMA is constantly working to improve our delivery of assistance and streamline our processes for disaster applicants and appreciates your evaluation of our data collection.

Comment 31 (FEMA-2022-0006-0032): The commenter suggested FEMA should regularly collect data and partner with researchers to investigate and track whether policies, programs, and regulations are achieving equitable outcomes; recommends that FEMA develop a robust evaluation plan that includes data collection, identification of equity benchmarks, and metrics and measures to assist with reporting.

FEMA Response: FEMA's Office of Equal Rights coordinated and hosted three civil rights summits for external stakeholders. Motivated by FEMA's core values of compassion, fairness, integrity and respect, the civil rights summits sought to engage FEMA and its stakeholders in collaborative dialogue aimed at identifying actual and perceived biases impacting equal access to FEMA's programs and services. The goal of the summits was to start a conversation about equity, equal access, and implementation with members of the public with first-hand knowledge about how FEMA can better meet the needs of underserved and historically marginalized communities before, during, and after disasters. The summits focused on three areas: Multi-cultural communities, disability communities, and environmental justice issues throughout disasters. The sessions included presentations from the main FEMA program offices that serve survivors and senior level panel discussions stemming from questions presented by attendees.

Comment 32 (FEMA-2022-0006-0033): The thirty-second comment was not applicable to this collection.

The purpose of this notice is to notify the public that FEMA will submit the information collection abstracted below to the Office of Management and Budget for review and clearance.

Collection of Information

Title: Generic Clearance for Civil Rights and Equity.

Type of Information Collection: New information collection.

OMB Number: 1660-NW133.

FEMA Forms: Under the Generic Clearance, each FEMA component will submit their specific forms for the collection of demographics. FEMA Form: FF-256-FY-21-100, Generic Clearance Civil Rights and Equity. The Agency is prepared to add these questions to the Individuals and Households program registration, FF-104-FY-21-123 (formerly FEMA Form 009-0-1T (English)), Tele-Registration, Disaster Assistance Registration, FF-104-FY-21-125 (formerly FEMA Form 009-0-1Int (English)), internet, Disaster Assistance Registration, FF-104-FY-21-122 (formerly FEMA Form 009-0-1 (English)), Paper Application/Disaster Assistance Registration. The demographic data will help the Individuals and Households program improve operational outcomes for vulnerable communities by using analysis of demographic data against program outcomes to evaluate whether any disparities in eligibility determinations appear to impact vulnerable communities. FEMA would then use this data to determine how to improve service delivery for all survivors. FEMA expects a burden of no more than 5 minutes per registration to answer the additional questions, with the entire estimated annual burden outlined below.

Abstract: The Federal Emergency Management Agency will use the demographic characteristics collected from applicants and beneficiaries to assess its civil rights, nondiscrimination and equity requirements, and obligations as outlined in federal civil rights laws such as the Civil Rights Act, Rehabilitation Act, and the Stafford Act.

Affected Public: Individuals or Households.

Estimated Number of Respondents: 938,800.

Estimated Number of Responses: 938,800.

Estimated Total Annual Burden Hours: 78,202.

Estimated Total Annual Respondent Cost: $3,176,565.

Estimated Respondents' Operation and Maintenance Costs: $0.

Estimated Respondents' Capital and Start-Up Costs: $0.

Estimated Total Annual Cost to the Federal Government: $3,814,696.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2022-10620 Filed 5-17-22; 8:45 am]

BILLING CODE 9111-24-P